DEPARTMENT OF HEALTH AND HUMAN SERVICES

Centers for Disease Control and Prevention

[60 Day-26-1406; Docket No. CDC-2026-0004]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comments on a proposed information collection project titled Traveler-Based Genomic Surveillance Program (TGS) Traveler Questionnaire. The TGS program monitors for communicable diseases among arriving international travelers at select U.S. airports.

DATES: CDC must receive written comments on or before March 16, 2026.

ADDRESSES: You may submit comments, identified by Docket No. CDC-2026-0004 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Traveler-Based Genomic Surveillance Program (TGS) Traveler Questionnaire (OMB Control No. 0920-1406, Exp. 6/30/2026)—Revision—National Center for Emerging and Zoonotic Infectious Diseases (NCEZID), Centers for Disease Control and Prevention (CDC).

Background and Brief Description

The goal of CDC's Traveler-Based Genomic Surveillance program (TGS) is to monitor for communicable diseases among arriving international travelers at select U.S. airports. Doing so enables the early detection of communicable disease importations of public health concern. The program also fills gaps in global biosurveillance by monitoring trends in global circulation of communicable diseases. Travelers who volunteer to participate in the program at airports and provide written, informed consent complete a short, anonymous questionnaire asking for travel information and general demographics. Two lower nasal swabs are then self-collected from participants. One swab is pooled with other traveler swabs in batches of 5-10 samples. Pooled samples undergo initial testing for pathogens of public health importance (including SARS-CoV-2, Influenza A virus, and RSV [respiratory syncytial virus]) via reverse transcription polymerase chain reaction (RT-PCR) testing. If any pool of swabs registers with any positive test, then all secondary swab samples (stored individually) corresponding to those in the pool are tested individually. Pathogen genomic sequencing may be performed on samples to determine the pathogen lineage. Some samples may be sent to CDC for further testing. No human genetic testing will be performed.

This request is a Revision of the approved collection request titled: Traveler-Based Genomic Surveillance (OMB Control No. 0920-1406). The program has since broadened to include testing nasal swabs for pathogens beyond SARS-CoV-2. The program has also streamlined the questions asked of participants based on data from previous versions of the questionnaire, participant feedback received through program staff at the airports, and direct input from the program staff at the airports. The new information collection has fewer questions, and question wording has been updated to improve participant comprehension and response rates.

Estimated Annualized Burden Hours
Type of respondents | Form name | Number of respondents | Number of responses per respondent | Average burden per response (in hours) | Total burden (in hours)
General Public (International traveler) | Traveler-Based Genomic Surveillance Traveler Questionnaire | 500,000 | 1 | 4/60 | 33,333
Total |  |  |  |  | 33,333

Jeffrey M. Zirger,
Lead, Information Collection Review Office, Office of Public Health Ethics and Regulations, Office of Science, Centers for Disease Control and Prevention.

[FR Doc. 2026-00420 Filed 1-12-26; 8:45 am]

BILLING CODE 4163-18-P